Title 3—

The President

Proclamation 8108 of February 27, 2007

American Red Cross Month, 2007

By the President of the United States of America

A Proclamation

The American Red Cross demonstrates the power of human compassion and embodies the capacity for kindness and generosity of this great Nation. This month, we honor the men and women of the American Red Cross who exhibit the spirit and character of America by serving others in need.

Since its founding in 1881, the American Red Cross has helped millions of individuals overcome the effects of natural disasters and emergencies by providing shelter, food, counseling, and other assistance. It plays an important role in our communities by helping maintain our country's blood supply, offering programs for youth and the elderly, supporting members of the military and their families, and promoting health and emergency preparedness. This inspiring organization helps improve the lives of those in need and continues to assist in the recovery efforts in the Gulf Coast.

The humanitarian mission of the American Red Cross extends around the world. My Administration is proud to work with it to support efforts to combat malaria, measles, HIV/AIDS, and other diseases that affect millions of people each year in Africa and throughout the world. The American Red Cross is committed to helping improve the prevention and treatment of diseases and is working to strengthen community health programs in developing areas of the world. These efforts help save lives and show the strength and generosity of America.

We are grateful for the tireless work of the volunteers and staff of the American Red Cross. During this month, we pay tribute to this remarkable organization and all those who have answered the call to serve a cause greater than self and offered support and healing in times of need.

NOW, THEREFORE, I, GEORGE W. BUSH, President of the United States of America and Honorary Chairman of the American Red Cross, by virtue of the authority vested in me by the Constitution and laws of the United States, do hereby proclaim March 2007 as American Red Cross Month. I commend the good work of the American Red Cross, and I encourage all Americans to help make our world a better place by volunteering their time, energy, and talents for others.

IN WITNESS WHEREOF, I have hereunto set my hand this twenty-seventh day of February, in the year of our Lord two thousand seven, and of the Independence of the United States of America the two hundred and thirty-first.

[FR Doc. 07-999

Filed 3-1-07; 8:49 am]

Billing code 3195-01-P